DEPARTMENT OF HEALTH AND HUMAN SERVICES

National Institutes of Health Statement of Delegation of Authority

Notice is hereby given that I have delegated to the Director, National Institutes of Health (NIH), the authority vested in the Secretary of Health and Human Services to serve as a duly authorized representative of the Department of Health and Human Services, an executive agency under 5 U.S.C. 105, for purposes of making the representations under 39 CFR part 551, and to execute letters from the Department for semipostal stamp proposals related to NIH under the Semipostal Authorization Act (Pub. L. 106-253), which is codified at 39 U.S.C. 416, and implementing regulations, which are codified at 39 CFR part 551.

This authority may not be redelegated. Exercise of this authority shall be in accordance with established policies, procedures, guidelines, and regulations as prescribed by the Secretary. The Secretary retains the authority to submit reports to Congress, including the written reports under 39 U.S.C. 416.

Dated: January 10, 2020.
Alex M. Azar II,
Secretary.

[FR Doc. 2020-00550 Filed 1-14-20; 8:45 am]

BILLING CODE 4140-01-P